DEPARTMENT OF TRANSPORTATION

Federal Aviation Administration

14 CFR Part 39

[Docket No. FAA-2024-2320; Project Identifier MCAI-2024-00268-T; Amendment 39-23006; AD 2025-07-05]

RIN 2120-AA64

Airworthiness Directives; Airbus SAS Airplanes

AGENCY: Federal Aviation Administration (FAA), DOT.

ACTION: Final rule.

SUMMARY: The FAA is adopting a new airworthiness directive (AD) for certain Airbus SAS Model A350-941 and -1041 airplanes. This AD was prompted by an updated stress analysis on the forward (FWD) cargo door and its attachment piano hinges that revealed a risk of cracking and crack propagation on piano hinges 2 and 3, originating from opening-closing fatigue cycles of the FWD cargo door. This AD requires an inspection of the affected parts, and applicable corrective actions, as specified in a European Union Aviation Safety Agency (EASA) AD, which is incorporated by reference. The FAA is issuing this AD to address the unsafe condition on these products.

DATES: This AD is effective May 13, 2025.

The Director of the Federal Register approved the incorporation by reference of a certain publication listed in this AD as of May 13, 2025.

ADDRESSES:

AD Docket: You may examine the AD docket at regulations.gov under Docket No. FAA-2024-2320; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-2320.

FOR FURTHER INFORMATION CONTACT: Nathan Weigand, Aviation Safety Engineer, FAA, 2200 South 216th St., Des Moines, WA 98198; phone: 206-231-3531; email: nathan.p.weigand@faa.gov.

SUPPLEMENTARY INFORMATION:

Background

The FAA issued a notice of proposed rulemaking (NPRM) to amend 14 CFR part 39 by adding an AD that would apply to certain Airbus SAS Model A350-941 and -1041 airplanes. The NPRM published in the Federal Register on September 30, 2024 (89 FR 79477). The NPRM was prompted by AD 2024-0129, dated July 5, 2024, issued by EASA, which is the Technical Agent for the Member States of the European Union (EASA AD 2024-0129) (also referred to as the MCAI). The MCAI states an update of the stress analysis resulted in a new definition of interface load distribution between the FWD cargo door and the associated fuselage piano hinges. Further investigation revealed a risk of cracking and crack propagation on the affected parts, originating from opening-closing fatigue cycles of the FWD cargo door. Under this condition, door operation could cause damage to the FWD cargo door surrounding structure and consequent reduced structural integrity of the airplane.

In the NPRM, the FAA proposed to require an inspection of the affected parts, and applicable corrective actions, as specified in EASA AD 2024-0129. The FAA is issuing this AD to address the unsafe condition on these products.

You may examine the MCAI in the AD docket at regulations.gov under Docket No. FAA-2024-2320.

Discussion of Final Airworthiness Directive

Comments

The FAA received a comment from the Air Line Pilots Association, International (ALPA), who supported the NPRM without change.

The FAA received an additional comment from Delta Air Lines, Inc. (Delta). The following presents the comment received on the NPRM and the FAA's response to the comment.

Request To Use an Alternative Safety Harness Manufacturer Part Number

Delta requested permission to use an alternative approved safety harness manufacturer part number (MPN) to accomplish step 5.3.B.(2) of Airbus Alert Operators Transmission (AOT) A53P17-24 Revision 01, dated June 26, 2024. Delta stated the AOT specifically requires safety harness MPN 98L12003001000 for compliance. Delta stated that based on previously approved alternative methods of compliance (AMOCs), alternative approved safety harness MPNs provide an acceptable level of safety during compliance with the requirements. Delta suggested revising paragraph (h) of the proposed AD to add the statement, “equivalent harness MPN(s) are acceptable.”

The FAA agrees to clarify. As specified in paragraph (i)(3) of this AD, if any material referenced in EASA AD 2024-0129 contains paragraphs that are identified as required for compliance (RC), those paragraphs must be done to comply with this AD; any paragraphs that are not identified as RC are recommended. The instructions in paragraph 5.3, including step 5.3.B.(2), in the Airbus AOT referenced in EASA AD 2024-0129 are not labeled as RC. Therefore, using the safety harness part number specified in the Airbus AOT is not required for compliance with this AD, and operators may use a safety harness with a different part number provided the instructions identified as RC can be done and the airplane can be put back in an airworthy condition. The FAA has not revised this AD in this regard.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

EASA AD 2024-0129 specifies procedures for performing a detailed inspection for cracks and damage (including dents, discoloration, punctures, nicks, and scratches) of the FWD cargo door piano hinges 2 and 3, and obtaining and following instructions for repair of cracks and damage. EASA AD 2024-0129 also specifies procedures for checking the condition and integrity of the temporary protection system (TPS) layer, if installed, removing any damaged TPS layer, and applying a new layer if the TPS layer was damaged, removed, or cleaned. This material is reasonably available because the interested parties have access to it through their normal course of business or by the means identified in the ADDRESSES section.

Costs of Compliance

The FAA estimates that this AD affects 28 airplanes of U.S. registry. The FAA estimates the following costs to comply with this AD:

Estimated Costs for Required Actions
Action | Labor cost | Parts cost | Cost per product | Cost on U.S. operators
Inspection (cargo door piano hinges) and TPS layer check | 1 work-hour × $85 per hour = $85 | $0 | $85 | $2,380

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-07-05 Airbus SAS: Amendment 39-23006; Docket No. FAA-2024-2320; Project Identifier MCAI-2024-00268-T.

(a) Effective Date

This airworthiness directive (AD) is effective May 13, 2025.

(b) Affected ADs

None.

(c) Applicability

This AD applies to Airbus SAS Model A350-941 and -1041 airplanes, certificated in any category, as identified in European Union Aviation Safety Agency (EASA) AD 2024-0129, dated July 5, 2024 (EASA AD 2024-0129).

(d) Subject

Air Transport Association (ATA) of America Code 53, Fuselage.

(e) Unsafe Condition

This AD was prompted by an updated stress analysis on the forward (FWD) cargo door and its attachment piano hinges that revealed a risk of cracking and crack propagation on piano hinges 2 and 3, originating from opening-closing fatigue cycles of the FWD cargo door. The FAA is issuing this AD to address potential failure of the piano hinges due to cracking. The unsafe condition, if not addressed, could result in damage to the FWD cargo door surrounding structure and consequent reduced structural integrity of the airplane.

(f) Compliance

Comply with this AD within the compliance times specified, unless already done.

(g) Requirements

Except as specified in paragraph (h) of this AD: Comply with all required actions and compliance times specified in, and in accordance with, EASA AD 2024-0129.

(h) Exceptions to EASA AD 2024-0129

(1) Where EASA AD 2024-0129 refers to “16 May 2024 [the effective date of EASA AD 2024-0098],” this AD requires using the effective date of this AD.

(2) Where paragraph (2) of EASA AD 2024-0129 specifies “if, during the DET as required by paragraph (1) of this AD, any crack or damage is detected, before next flight, contact Airbus for approved instructions and, within the compliance time specified therein, accomplish those instructions accordingly,” this AD requires replacing that text with “if any crack or damage is detected, the crack or damage must be repaired before further flight using a method approved by the Manager, AIR-520, Continued Operational Safety Branch, FAA; or EASA; or Airbus SAS's EASA Design Organization Approval (DOA). If approved by the DOA, the approval must include the DOA-authorized signature.”

(3) This AD does not adopt the “Remarks” section of EASA AD 2024-0129.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, mail it to the address identified in paragraph (j) of this AD. Information may be emailed to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraphs (h)(2) and (i)(2) of this AD, if any material referenced in EASA AD 2024-0129 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(j) Additional Information

For more information about this AD, contact Nathan Weigand, Aviation Safety Engineer, FAA, 2200 South 216th St., Des Moines, WA 98198; phone: 206-231-3531; email: nathan.p.weigand@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0129, dated July 5, 2024.

(ii) [Reserved]

(3) For EASA material identified in this AD, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on March 28, 2025.
Victor Wicklund,
Deputy Director, Integrated Certificate Management Division, Aircraft Certification Service.

[FR Doc. 2025-06006 Filed 4-7-25; 8:45 am]

BILLING CODE 4910-13-P